DEPARTMENT OF VETERANS AFFAIRS

Advisory Committee on Women Veterans, Notice of Meeting

The Department of Veterans Affairs (VA) gives notice under the Federal Advisory Committee Act, 5 U.S.C. ch. 10, that the Advisory Committee on Women Veterans will conduct a virtual meeting on August 28-29, 2023. The meeting sessions will begin and end as follows:

Date | Time | Location
August 28, 2023 | 1 p.m.-3 p.m. (ET) | WEBEX link and call-in information below.
August 29, 2023 | 2 p.m.-4 p.m. (ET) | WEBEX link and call-in information below.

The meeting sessions are open to the public.

The purpose of the Committee is to advise the Secretary of Veterans Affairs regarding the needs of women Veterans with respect to health care, rehabilitation, compensation, outreach and other programs and activities administered by VA designed to meet such needs. The Committee makes recommendations to the Secretary regarding such programs and activities.

On Monday, August 28, the agenda includes full committee discussion on 2023 report recommendations. On Tuesday, August 29, the agenda includes time allotted for public comment starting at 2:15 p.m. and ending no later than 2:45 p.m. (ET). The comment period may end sooner, if there are no comments presented or they are exhausted before the end time. Individuals interested in providing comments during the meeting are allowed no more than three minutes for their statements. Following the comment period, full committee discussion on the 2023 report will continue.

Those who want to submit written statements for the Committee's review should submit them to the Center for Women Veterans at 00W@mail.va.gov no later than August 21, 2023. Any member of the public who wishes to participate virtually may use the following access information: https://veteransaffairs.webex.com/veteransaffairs/j.php?MTID=mc50d2108879e9bb93b4447cfb1a29609; meeting number: 2764 568 8392, meeting password: FAmc6wJy*39. Join by phone at 1-404-397-1596 (USA toll number); Access code: 27645688392.

Dated: August 3, 2023.
Jelessa M. Burney,
Federal Advisory Committee Management Officer.

[FR Doc. 2023-16915 Filed 8-7-23; 8:45 am]

BILLING CODE P